DEPARTMENT OF AGRICULTURE

Forest Service

Sequoia National Forest; California; Piute Mountains Travel Management Plan

AGENCY: Forest Service, USDA.

ACTION: Notice of intent to prepare an environmental impact statement.

SUMMARY: The Sequoia National Forest proposes to develop a travel management plan for the Piute Mountains, located in northeast Kern County, California. The Piute Mountains, with a mixed conifer and pine forest, are included in the eastside Sierra Nevada ecosystem. The project area for this analysis includes 77,679 acres of National Forest System land in the Piute Mountains part of the Sequoia National Forest. There are an additional 7,170 acres of private land within the Piute Mountains. The Piute fire burned approximately 37,000 acres within the Piute Mountains in 2008.

The Sequoia National Forest intends to prepare an environmental impact statement (EIS) to evaluate the possible effects associated with the proposed action which will add approximately 125 miles of existing roads and trails to the National Forest Transportation System (NFTS), and close approximately 5 miles of NFTS roads and trails, 4.5 miles of which are currently open only to motorcycle, and close 0.5 mile of roads open to all vehicles (Table 1). The proposed action includes an amendment to the Sequoia National Forest Land and Resource Management Plan that would change approximately 7,175 acres of semi-primitive non-motorized (SPNM) recreation land to semi-primitive motorized.

DATES: Comments concerning the proposed action must be received by March 21, 2011. The Forest Service expects to release the draft environmental impact statement in mid October 2011, and the final environmental impact statement by the end of December 2011.

ADDRESSES: Send written comments to: Warren Niemi, Environmental Coordinator, Sequoia National Forest, 1839 South Newcomb Street, Porterville, California 93257. Mr. Niemi's phone number is 559-784-1500, extension 1137. Comments may also be sent via e-mail to comments-pacificsouthwest-sequoia@fs.fed.us or via facsimile to (559) 781-4744.

FOR FURTHER INFORMATION CONTACT: Individuals who use telecommunication devices for the deaf (TDD) may call the Federal Information Relay Service (FIRS) at 1-800-877-8339 between 8 a.m. and 8 p.m., Eastern Time, Monday through Friday.

SUPPLEMENTARY INFORMATION:

Background

As a result of the Piute fire, the Piute Mountains were removed from the travel management analysis included in the Sequoia National Forest Motorized Travel Management Environmental Impact Statement released in October 2009. The Piute fire burned part of the project area being evaluated in the environmental impact statement between June 28 and July 25, 2008. Approximately 37,000 acres were burned. A majority of the non-system trails not included in the NFTS, within the fire burn area were proposed for addition to the NFTS as part of the Sequoia National Forest Motorized Travel Management EIS. A series of heavy rain events occurred in the area following the Piute Fire, causing excessive runoff and flash flooding. Early evaluations indicated that erosion was intense in much of the burned area. After review and consultation with the travel management interdisciplinary team, the Forest Supervisor decided to remove the Piute Mountains area from the Motorized Travel Management Proposed Action and other alternatives being evaluated. Only the prohibition of cross-country travel was considered in the Piute Mountains by the Motorized Travel Management EIS.

The use of motor vehicles in the Kern River Ranger District of the Sequoia National Forest has increased in recent years. Increased recreational vehicle use has led to the development of non-system off highway vehicle (OHV) trails, and has increased the potential for disagreements arising between motorized and non-motorized users of the Sequoia National Forest, in addition to complaints from private and Tribal property owners regarding trespassing, noise, stock, and fences. OHV use can also result in areas of degraded soil, water, and vegetation.

Purpose and Need for Action

The purpose behind the Piute Mountains travel management project is to evaluate motor vehicle recreation opportunities in the Piute Mountains, while maintaining the natural and cultural resources present in those parts of the Piute Mountains managed by the Forest Service. The following needs for the Piute Mountains travel management plan have been identified by the project's interdisciplinary team:

1. The Sequoia National Forest has a need to provide greater diversity of motorized recreational opportunity for a variety of vehicles used by forest visitors. There is a need to provide motor vehicle access to dispersed recreation sites used for camping, hunting, sightseeing, horseback riding, hiking, rock climbing, rock hounding, and vegetation and firewood collecting. Forest Service policy calls for providing forest users with diverse road and trail opportunities for experiencing a variety of environments and modes of travel consistent with the national forest recreation role and land capability as stated in Forest Service Manual 2353.03(2).

2. Provide diverse opportunities for vehicles capable of off highway travel.

3. Evaluate the Piute Fire burn area regarding roads and trails, and natural and cultural resources.

4. Evaluate the forest transportation system needs of forest users, private and Tribal property owners, and special use permit holders within the Piute Mountains.

5. Establish consistency with the Recreation Opportunity Spectrum (ROS) semi-primitive non-motorized setting located within the Piute Mountains as established in the Sequoia National Forest Land and Resource Management Plan (LRMP) and its amendments. There are currently five NFTS motorcycle trails, totaling approximately13 miles, located within the project area semi-primitive non-motorized area. The Sequoia National Forest LRMP states that no OHV roads and trails will be designated within established semi-primitive non-motorized areas.

6. Determine if the Long Canyon/Dry Meadows Trail No. 34E31 should continue to be managed for motor vehicle use. Trail No. 34E31 provides a north south trail in the northern Piute Mountains as obligated by the July 1990 Mediated Settlement Agreement to the Sequoia National Forest LRMP (pages 99-101). Trail No. 34E31 extends northward from Dry Meadows to the Forest boundary. Motorized use on Trail No. 34E31 was allowed to continue until a determination is made regarding its future. Trail No. 34E31 is currently located within a semi-primitive non-motorized area. The Mediated Settlement Agreement states that if a trail can accommodate OHV use, the boundary of the semi-primitive non-motorized area shall be adjusted (page 100). The Mediated Settlement Agreement also states that an environmental analysis shall be completed to evaluate forest resources, with emphasis on soils, wildlife and the Long Canyon Research Natural Area (page 100).

7. There is a need to evaluate the compatibility of motor vehicle use on the Bright Star Trail No. 34E34 with existing conditions, including trespass and sound, in the vicinity of the Liebel property.

The Sequoia National Forest will consider the following criteria presented in Subpart B of the Forest Service Travel Management Rule of 2005 during the environmental analysis regarding proposed changes to the forest transportation system. These considerations include:

• Possible impacts to natural and cultural resources;

• Public safety;

• Access to public and private lands;

• Availability of resources to maintain and administer roads, trails and use areas if actions proposed are undertaken;

• Minimizing damage to soil, watersheds, vegetation and other forest resources;

• Minimize disturbance of wildlife and disruption of wildlife habitat;

• Minimize the potential for disagreement between the various users of forest lands;

• Recognize the possible consequences of conflicting forest uses; and

• Compatibility of motorized and non-motorized uses of forest lands.

The Sequoia National Forest will also consider the speed, volume, composition and distribution of forest road traffic, the compatibility of vehicle class and forest road design features, and the maintenance of existing rights-of-way, during the environmental analysis.

Proposed Action

The Sequoia National Forest proposes the following changes to the current forest transportation system. The proposed action is based upon the purpose and need for the project, and the results of an evaluation of motor vehicle use within the Piute Mountains. Public input gathered in a series of five meetings held in Kernville was used to develop the proposed action which would:

1. Add approximately 121 miles of existing non-system routes to the National Forest Transportation System (NFTS) as trails open to motorcycles only;

2. Add approximately 3 miles of existing non-system routes to the NFTS as trails open to all public vehicles;

3. Add approximately 0.1 miles of existing non-system route to the NFTS as road open to all public vehicles.

4. Change the status of approximately 3 miles of closed NFTS road to NFTS trail open to all public vehicles.

5. Change the status of approximately 1 mile of closed NFTS road to NFTS trail open to motorcycles only.

6. Change approximately 10 miles NFTS roads closed to public vehicles to NFTS roads open to all public vehicles.

7. Change approximately 0.5 miles NFTS road open to all to NFTS road closed to all public vehicles.

8. Change approximately 0.7 miles NFTS road open to all to NFTS road open to highway legal vehicles only.

9. Change approximately 0.4 miles of NFTS road open to highway legal vehicles only to NFTS road open to all public vehicles.

10. Change approximately 2.1 miles of NFTS trail open to motorcycles only to NFTS trail open to all public vehicles.

11. Change approximately 4.5 miles NFTS trail open to motorcycles only to NFTS trail closed to all public vehicles.

12. Add non-system route U00125, approximately 0.5 miles in length, and located in the Greenhorn Mountains, as a NFTS road.

13. Establish consistency with ROS settings and between the use of the Long Canyon/Dry Meadow Trail 34E31 and the 1990 Mediated Settlement Agreement by changing the ROS classification on 7,175 acres of semi-primitive non-motorized land west of trail No. 34E31 to semi-primitive motorized. This would allow the continued motor vehicle use of NFTS trails 34E31, 34E41, and 34E52, and non-system trail U0013. This proposed action would require an amendment to the Sequoia National Forest Land and Resource Management Plan.

Table 1—Summary of Mileage in Current Inventory and the Proposed Action
Proposed action current inventory | Closed road | Road open to all | Road open to highway legal vehicles only | Trail open to all | Trail open to motorcycles only | Closed trail | Total miles
Existing Non-System Route |  | 0.1 |  | 3.4 | 121.4 |  | 124.9
Closed Road | 7.9 | 10.0 |  | 2.8 | 1.0 |  | 21.7
Road Open to All | 0.5 | 48.8 | 0.7 |  |  |  | 50.0
Road Open to Highway Legal Vehicles Only |  | 0.4 | 4.5 |  |  |  | 4.9
Trail Open to Motorcycles Only |  |  |  | 2.1 | 66.7 | 4.5 | 73.3
Total Miles | 8.4 | 59.8 | 5.2 | 8.3 | 189.1 | 4.5 | 275.3

Maps showing the existing and proposed forest transportation system in the Piute Mountains can be found at the Piute Mountains Travel Management Plan Web site http://fs.fed.us/r5/sequoia/projects/piutes-tm/index.html. The project maps are also available for viewing at: Forest Supervisor's Office, 1839 South Newcomb, Porterville, California, and Kern River Ranger District, 105 Whitney Road, Kernville, California.

Possible Alternatives

Other alternatives will be developed based on significant issues identified during the scoping process for the environmental impact statement. Alternatives evaluated will need to respond to the specific condition of providing benefits equal to or better than the current condition. Alternatives being considered at this time include: (1) No Action, and (2) the Proposed Action.

Responsible Official

The Forest Supervisor of the Sequoia National Forest, 1839 South Newcomb Street, Porterville, CA 93257, is the responsible official. A Record of Decision will be prepared by the responsible official documenting the decision and reasons for the decision. That decision will be subject to Forest Service appeal regulations (36 CFR part 215).

Nature of Decision To Be Made

The Responsible Official will decide whether to adopt and implement the proposed action, an alternative to the proposed action, or take no action regarding the existing Piute Mountains forest transportation system. The Responsible Official will also decide whether to amend the Sequoia National Forest LRMP. The Sequoia National Forest will publish a Motor Vehicle Use Map identifying the roads, trails and areas that are designated for motor vehicle use. The Motor Vehicle Use Map will identify the classes of vehicles and, if appropriate, the times of year for which use is designated.

Scoping Process

This notice of intent initiates the scoping process, which guides the development of the environmental impact statement.

It is important that reviewers provide their comments at such times and in such manner that they are useful to the U.S. Forest Service in preparation of the environmental impact statement. Therefore, comments should be provided prior to the close of the comment period and should clearly articulate the reviewer's issues and contentions.

Comments received in response to this solicitation, including names and addresses of those who comment, will be part of the public record for this proposed action. Comments submitted anonymously will also be accepted and considered.

Dated: February 11, 2011.
Tina J. Terrell,
Forest Supervisor.

[FR Doc. 2011-3698 Filed 2-17-11; 8:45 am]

BILLING CODE 3410-11-P